DEPARTMENT OF AGRICULTURE

Submission for OMB Review; Comment Request

May 1, 2015.

The Department of Agriculture will submit the following information collection requirement(s) to OMB for review and clearance under the Paperwork Reduction Act of 1995, Public Law 104-13 on or after the date of publication of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW., Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by June 8, 2015. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Specialty Crop Block Grant Program—2008 Farm Bill.

OMB Control Number: 0581-0248.

Summary of Collection: The Specialty Crop Block Grant Program—Farm Bill (SCBGP-FB) is authorized under section 101 of the Specialty Crops Competitiveness Act of 2004 (7 U.S.C. 1621 note, amended under section 10109 of the Food, Conservation, and Energy Act of 2008, the Farm Bill). Section 10109 directs the Secretary of Agriculture to make grants to States to be used by State departments of agriculture solely to enhance the competitiveness of specialty crops.

Need and Use of the Information: The information collected is needed for the implementation of the SCBGP-FB, to determine a State department of agriculture's eligibility in the program, and to certify that grant participants are complying with applicable program regulations.

Description of Respondents: State Agriculture Departments.

Number of Respondents: 56.

Frequency of Responses: Reporting: Annually.

Total Burden Hours: 1,624.

Charlene Parker,
Departmental Information Collection Clearance Officer.

[FR Doc. 2015-10951 Filed 5-6-15; 8:45 am]

BILLING CODE 3410-02-P